LEGAL SERVICES CORPORATION

Sunshine Act Meeting of the Board of Directors Provision for the Delivery of Legal Services Committee

Time and Date: The Provision for the Delivery of Legal Services Committee of the Legal Services Corporation Board of Directors will meet September 10, 2004. The Committee will convene following a lunch break expected to conclude at approximately 1:45 p.m.

Location: The Best Western, 835 Great Northern Boulevard, Helena, Montana.

Status of Meeting: Open.

Matters To Be Considered:

Open Session

1. Approval of agenda;

2. Approval of the minutes of the Committee's meeting of June 4, 2004;

3. Presentation by Montana Legal Services Association (MLSA) Staff on MLSA's efforts and specific activities to improve quality legal services, including:

a. Overview of MLSA by Klaus Sitte, Executive Director;

b. How Technology Improves MLSA's Client Service Delivery: Earned Income Tax Credit Project by Alison Paul, Deputy Director, & Kate Bladow, Technology Project Coordinator;

c. Expanding Clients' Access to Service and Delivering Quality Advice through MLSA's Hotline by Deborah Anspach, Hotline Managing Attorney;

d. Quality Client Services Begins with Understanding Client Community's Needs: Montana Comprehensive Legal Needs Study by Chris Manos, Executive Director, State Bar of Montana;

e. A Client's Perspective on Quality Client Service Delivery by Leah Sliwinski, MLSA Client;

f. Quality Service Delivery to a Special Population: MLSA's Migrant Component by Maria Beltran, Managing Attorney of the Migrant Unit;

4. Report on status of Mentoring Project;

5. Public comment;

6. Consider and act on other business;

7. Consider and act on adjournment of meeting.

For Further Information Contact: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: September 1, 2004.
Victor M. Fortuno,
Vice President for Legal Affairs, General Counsel & Corporate Secretary.

[FR Doc. 04-20266 Filed 9-1-04; 3:12 pm]

BILLING CODE 7050-01-P